DEPARTMENT OF THE INTERIOR

Office of the Secretary

Consultation Meetings on the Department of the Interior's Financial Assistance Programs

AGENCY: Office of the Secretary, Interior.

ACTION: Notice of public regional consultation meetings on the Federal Financial Assistance Management Improvement Act of 1999 (Public Law 106-107).

SUMMARY: The Department of the Interior is conducting several regional consultation meetings to implement the Federal Financial Assistance Management Improvement Act of 1999. The meetings are designed to give interested members of the public a chance to comment on the Department's financial assistance programs and offer suggestions for changes. We encourage any interested individuals or organizations to participate by attending the consultations or by providing written comments. We are especially interested in comments by current financial assistance recipients and applicants.

DATES: See the SUPPLEMENTARY INFORMATION section for dates of meetings.

ADDRESSES: Meetings will be held in San Diego, California; Albuquerque, New Mexico; Honolulu, Hawaii; and Washington, DC. See the SUPPLEMENTARY INFORMATION section for the locations of the meetings.

FOR FURTHER INFORMATION CONTACT: Tammy Pataluna, telephone: 202-208-4080, e-mail: tammy_pataluna@ios.doi.gov, mailing address: 1849 C Street, NW., Mail Stop 5512, Washington, DC 20240, website: http://www.doi.gov/pam/Grantcomment.html.

SUPPLEMENTARY INFORMATION: The Department is conducting regional consultation meetings to discuss the Federal Financial Assistance Management Improvement Act of 1999 (Public Law 106-107) (the “Act”). The Act requires federal agencies to improve the effectiveness and performance of federal financial assistance programs; simplify federal financial assistance application and reporting requirements; improve the delivery of services to the public; and facilitate greater coordination among those responsible for delivering such services. The Act requires agencies to receive comments from the public and to consult with representatives of non-Federal entities regarding the development of a plan to simplify their financial assistance programs. The Department has already participated in a government-wide consultation and is now seeking information specific to Interior's programs. At these meetings, the Department will explain its financial assistance programs and application requirements and solicit suggestions for improvements that it can make. If you or an organization that you represent has an interest in the Department's financial assistance programs, we encourage you to attend these meetings and participate in the consultation process.

The following bureaus and offices of the Department are sponsoring the consultation meetings: The Bureau of Indian Affairs, the Bureau of Land Management, Bureau of Reclamation, the Minerals Management Service, the National Business Center, the National Park Service, the Office of Acquisition and Property Management, the Office of the Assistant Secretary for Policy Management and Budget, the Office of Insular Affairs, the Office of Surface Mining, the U.S. Fish and Wildlife Service, and the U.S. Geological Survey. The meeting in Honolulu is specifically geared toward organizations and individuals interested in obtaining, and authorized to obtain, financial assistance from the Department's Office of Insular Affairs. The second consultation scheduled in Albuquerque, NM, (February 5, 2003, 1 p.m.) is specifically for organizations, individuals and Tribes interested in obtaining further information on the Bureau of Indian Affairs' grants and financial assistance process. The following table shows the dates and times of the regional meetings. For the convenience of those who require accommodations, we have reserved hotel rooms at a special reduced rate at each meeting location. To obtain the special rate, contact the hotel following the instructions given in the table. Be sure to mention that you want the special rate for Consultation Under Public Law 106-107. For further information, contact Tammy Pataluna at the number or address shown in the FOR FURTHER INFORMATION CONTACT section.

Date and times of meeting | Location of meeting | How to reserve hotel rooms
January 29, 2003, 9:30 a.m. to 5 p.m., January 30, 2003, 9:30 a.m. to noon | Catamaran Resort, 3999 Mission Blvd., San Diego, California 92109 | Call the Catamaran Resort at 800-530-8725. To receive the special rate, you must make reservations by January 13, 2003.
February 4, 2003, 9:30 a.m. to 5 p.m., February 5, 2003, 9:30 a.m. to noon | Doubletree Hotel, Albuquerque, New Mexico 87102 | Call the Doubletree Hotel at 888-223-4113. To receive the special rate, you must make reservations by January 13, 2003.
February 5, 2003, 1 p.m. to 5 p.m., February 6, 2003, 9:30 a.m. to 5 p.m | Doubletree Hotel, Albuquerque, New Mexico 87102 | Call the Doubletree Hotel at 888-223-4113. To receive the special rate, you must make reservations by January 13, 2003.
February 19, 2003, 9:30 a.m. to 5 p.m., February 20, 2003, 9:30 a.m. to noon | Hilton Hawaiian Village, 2005 Kalia Road, Honolulu, Hawaii 96815 | Call the Hilton Hawaiian Village at 808-949-4321. To receive the special rate, you must make reservations by February 3, 2003.
March 18, 2003, 9:30 a.m. to 5 p.m., March 19, 2003, 9:30 a.m. to noon | South Interior Building, 1951 Constitution Avenue, NW., Washington, DC 20240 | Call the State Plaza Hotel, 2117 E Street, NW., at 800-424-2859. To receive the special rate, you must make reservations by February 21, 2003.

Dated: December 20, 2002.
Debra E. Sonderman,
Director, Office of Acquisition and Property Management.

[FR Doc. 02-32665 Filed 12-26-02; 8:45 am]

BILLING CODE 4310-RK-P